FEDERAL COMMUNICATIONS COMMISSION

47 CFR Parts 0, 1, 2, 3, 15, 25, 52, 73, 74, 87, and 90

[DA 00-2204]

Change of Address for Federal Communications Commission's Headquarters

AGENCY: Federal Communications Commission.

ACTION: Final rule.

SUMMARY: In this document we amend the Commission's rules to reflect the change of address of the Commission's headquarters to the Portals II Building, 445 12th Street SW., Washington, D.C. 20054.

DATES: Effective: September 29, 2000.

FOR FURTHER INFORMATION CONTACT: Andra Cunningham, Attorney, Office of the Secretary, Office of the Managing Director, at (202) 418-0315.

SUPPLEMENTARY INFORMATION: This amendment is made pursuant to Section 0.231 (b) of the Commission's rules, 47 CFR Section 0.231. Because the rule amendments adopted here are a matter of agency practice and procedure, compliance with the notice and comment and effective date provisions of the Administrative Procedure Act is not required.¹

¹ 5 U.S.C. 553(b)(A); (d)

List of Subjects

47 CFR Parts 0, 1, 2, 3, 15, 25, 74, 87, and 90

Reporting and recordkeeping requirements.

47 CFR Part 52

Telecommunications.

Federal Communications Commission.
Andrew S. Fishel,
Managing Director.

Rule Changes

For the reasons discussed in the preamble, the Federal Communications Commission amends 47 CFR Parts 0, 1, 2, 3, 15, 25, 52, 73, 74, 87 and 90 as follows:

PART 0—COMMISSION ORGANIZATION

1. The authority citation for Part 0 continues to read as follows:

Authority: Sec. 5, 48 Stat. 1068, as amended; 47 U.S.C. 155, 225, unless otherwise noted.

§ 0.401 [Amended]

2. Section 0.401(a)(1) introductory text is amended by removing the words “1919 M Street, NW., Washington, DC.” and adding, in their place, the words “445 12th Street, SW., Washington, DC 20554”.

3. Section 0.401(a)(1)(ii) is amended by removing the words “1919 M Street, NW., Room 222, Washington, DC.” and adding, in their place, the words “Room TW-A325, 445 12th Street, SW., Washington, DC 20554”.

§ 0.556 [Amended]

4. Section 0.556 (a) is amended by removing the words “Associate Managing Director-Personal Management, Office of Managing Director, 1919 M Street, NW.,” and adding, in their place, the words “Associate Managing Director—Human Resources Management, 445 12th Street, SW.,”

§ 0.558 [Amended]

5. Section 0.558 is amended by removing the words “1919 M Street NW.,”and adding, in their place, the words “445 12th Street, SW.”

6. Section 0.558 is amended by removing the words “Records Management Branch, Office of Managing Director, 1200 19th Street, NW., Room BB-325” and adding, in their place, the words “Performance Evaluation and Records Management, Office of the Managing Director, 445 12th Street, SW.”

PART 1—PRACTICE AND PROCEDURE

7. The authority citation for Part 1 continues to read:

Authority: 47 U.S.C. 151, 154(i), 154(j), 155, 225, 303(r), 309.

§ 1.773 [Amended]

8. Section 1.773(a)(4) is amended by removing the words “FCC room 222, 1991 M Street, NW.,” and adding, in their place, the words “FCC room TW-A325, 445 12th Street, SW.”

§ 1.1870 [Amended]

9. Section 1.1870(c) is amended by removing the words “1919 M Street NW., Room 852” and adding, in their place, the words “445 12th Street, SW., Room 1-A207”.

10. Section 1.1870(i) is amended by removing the words “1919 M Street NW., Room 202” and adding, in their place, “445 12th Street, SW., Room TWB-204”.

§ 1.1952 [Amended]

11. Section 1.1952(a) is amended by removing the words “Financial Services Branch, FCC, 1919 M Street NW.,” and adding, in their place, “Financial Operations Center, FCC, 445 12th Street, SW.”

PART 2—FREQUENCY ALLOCATIONS AND RADIO TREATY MATTERS; GENERAL RULES AND REGULATIONS

12. The authority citation for Part 2 continues to read as follows:

Authority: 47 U.S.C. 154, 302, 303, 307, 336, and 337, unless otherwise noted.

§ 2.948 [Amended]

13. Section 2.948(b)(8)(i)(A) is amended by removing the words “2025 M Street, NW., Office of Engineering and Technology (room 7317)” and adding, in their place, “445 12th Street, SW., Office of Engineering and Technology”.

PART 3—AUTHORIZATION AND ADMINISTRATION OF ACCOUNTING AUTHORITIES IN MARITIME AND MARITIME MOBILE-SATELLITE RADIO SERVICES

14. The authority citation for Part 3 continues to read as follows:

Authority: 47 U.S.C. 154(i), 154(j), and 303(r).

§ 3.61 [Amended]

15. Section 3.61 is amended by removing the words “Financial Operations Division, Stop 1110A, Federal Communications Commission, 1919 M Street NW.,” and adding, in their place, the words “Financial Operations Center, Federal Communications Commission, 445 12th Street, SW.”

Section 3.61 is amended by removing the words “1919 M Street NW.,” and adding, in their place, the words “445 12th Street, SW.”

PART 15—RADIO FREQUENCY DEVICES

16. The authority citation for Part 15 continues to read as follows:

Authority: 47 U.S.C. 154, 302, 303, 304, 307 and 544A.

§ 15.31 [Amended]

17. Section 15.31(a)(6)(i) is amended by removing the words “2025 M Street, NW., Office of Engineering and Technology (Room 7317)” and adding, in their place, the words “445 12th Street, SW., Office of Engineering and Technology”.

PART 25—SATELLITE COMMUNICATIONS

18. The authority citation for Part 25 continues to read as follows:

Authority: 47 U.S.C. 701-744. Interprets or applies sec. 303, 47 U.S.C. 303. 47 U.S.C. sections 154, 301, 302, 303, 303, 307, 309, and 332, unless otherwise noted.

§ 25.131 [Amended]

19. Section 25.131(j) is amended by removing the words “International Reference Center, FCC, 2000 M St. NW.,” and adding, in their place, the words “Reference Information Center, FCC, 445 12th Street, SW., Room CY-A257.”

§ 25.251 [Amended]

20. Section 25.251 (b) is amended by removing the words “International Bureau Reference Center, Room 102, 2000 M Street, NW.” and adding, in their place, the words “Reference Information Center, FCC, 445 12th Street, SW., Room CY-A257.”

PART 52—NUMBERING

21. The authority citation for Part 52 continues to read as follows:

Authority: Sec.1, 2, 4, 5, 48 Stat. 1066, as amended; 47 U.S.C. 151, 152, 154, 155 unless otherwise noted. Interpret or apply secs. 3, 4, 201-05, 207-09, 218, 225-7, 251-2, 271 and 332, 48 Stat. 1070, as amended, 1077; 47 U.S.C. 153, 154, 201-05, 207-09, 218, 225-7, 251-2, 271 and 332 unless otherwise noted.

§ 52.26 [Amended]

22. Section 52.26(c) is amended by removing the words “1919 M Street, N.W., Room 239 (FCC Reference Center)” and adding, in their place, the words “Reference Information Center, 445 12th Street, SW., Room CY-A257).”

PART 73—RADIO BROADCAST SERVICES

23. The authority citation for Part 73 continues to read as follows:

Authority: 47 U.S.C. 154, 303, 334 and 336.

§ 73.622 [Amended]

24. Section 73.622(c) is amended by removing the words “1919 M St., NW., Dockets Branch (Room 239)” and adding, in their place, the words “Room CY-C203, 445 12th Street, SW., Reference Information Center”.

§ 73.623 [Amended]

25. Section 73.623(c)(2) is amended by removing the words “1919 M St., NW., Dockets Branch (Room 239)” and adding in their place, the words “Room CY-C203, 445 12th Street, SW., Reference Information Center”.

§ 73.682 [Amended]

26. Section 73.682 (a)(21)(iv) is amended by removing the words “Commission's Office of Engineering and Technology, Technical Standards Branch, 2025 M Street, NW” and adding, in their place, the words “FCC Warehouse, 9300 East Hampton Drive, Capitol Heights, MD 20743”.

27. Section 73.682 (d) is amended by removing the words “ 1919 M Street, NW.,” and adding, in their place, the words “445 12th Street, SW.”

PART 74—EXPERIMENTAL RADIO, AUXILLARY, SPECIAL BROADCAST AND OTHER PROGRAM DISTRIBUTIONAL SERVICES

28. The authority citation for Part 74 continues to read as follows:

Authority: 47 U.S.C. 154, 303, 307, and 554.

§ 74.705 [Amended]

29. Section 74.705 (e) is amended by removing the words “1919 M St., NW., Dockets Branch (Room 239)” and adding, in their place, the words “CY-C203, 445 12th Street, SW., Reference Information Center”.

§ 74.701 [Amended]

30. Section 74.707 (e) is amended by removing the words “1919 M St., NW., Dockets Branch (Room 239)” and adding, in their place, the words “Room CY-C203, 445 12th Street, SW., Reference Information Center”.

PART 87—AVIATION SERVICES

31. The authority citation for Part 87 continues to read as follows:

Authority: Sections 4(i), 11, 303(g), 303(r), and 332(c)(7) of the Communications Act of 1934, as amended, 47 U.S.C. 154(i), 161, 303(g), 303(r), 332(c)(7).

§ 87.199 [Amended]

32. Section 87.199(a) is amended by removing the words “1919 M Street NW” and adding, in their place, the words “445 12th Street, SW.”

PART 90—PRIVATE LAND MOBILE SERVICES

33. The authority citation for Part 90 continues to read as follows:

Authority: 47 U.S.C. 154, 303, 307, and 554.

§ 90.7 [Amended]

34. In Section 90.7, the definition of EA-based or EA license, is amended by removing the words “Wireless Telecommunications Bureau public reference room, Room 5608, 2025 M St., NW.,” and adding, in their place the words “Reference Information Center (Room CY-A257), 445 12th Street, SW.,”

35. In Section 90.7, the definition of MTA-based license or MTA license, is amended by removing the words “Wireless Telecommunications Bureau public reference room, Room 628, 1919 M St., NW.,” and adding, in their place the words “Reference Information Center (Room CY-A257), 445 12th Street, SW.,”

36. In Section 90.7, the definition of 900 MHz SMR MTA-based license or MTA license is, amended by removing the words “Office of Engineering Technology's Technical Information Center, room 7317, 2025 M St., NW.,” and adding, in their place the words “Reference Information Center (Room CY-A257), 445 12th Street, SW.,”

[FR Doc. 00-25094 Filed 9-28-00; 8:45 am]

BILLING CODE 6712-01-P